DEPARTMENT OF THE INTERIOR

Fish and Wildlife Service

National Park Service

[FWS-R6-R-2013-N132; FXRS1265066CCP0—134-FF06R06000]

Niobrara Confluence and Ponca Bluffs Conservation Areas, NE and SD; Draft Environmental Impact Statement and Land Protection Plan; Extension of the Public Comment Period

AGENCY: Fish and Wildlife Service, National Park Service, Interior.

ACTION: Notice of availability; extension of comment period.

SUMMARY: We, the U.S. Fish and Wildlife Service (Service), advise the public that we are extending the public comment period for the Niobrara Confluence and Ponca Bluffs Conservation Areas Draft Environmental Impact Statement and Land Protection Plan until September 30, 2013. If you have previously submitted comments, please do not resubmit them, because we have already incorporated them in the public record and will fully consider them in our final decision.

DATES: To ensure consideration, please send your written comments by September 30, 2013.

ADDRESSES: You may submit your comments or a request for copies (hard copies or a CD-ROM) or more information by any of the following methods:

Agency Web site: http://parkplanning.nps.gov/niob-ponca.

Email: niobrara_ponca@fws.gov.

In-Person Viewing or Pickup: Call (605) 665-0209 to make an appointment during regular business hours at Missouri River National Recreational River Headquarters, 508 East 2nd Street, Yankton, SD 57078.

Mail: Nick Kaczor, USFWS, Division of Refuge Planning, P.O. Box 25486, DFC, Denver, CO 80225.

FOR FURTHER INFORMATION CONTACT: Nick Kaczor, Planning Team Leader, at (303) 236—4387, or by mail at Division of Refuge Planning, USFWS, P.O. Box 25486, DFC, Denver, CO 80225.

SUPPLEMENTARY INFORMATION: On April 8, 2013, we published a Federal Register notice (78 FR 20942) announcing the availability of the Draft Environmental Impact Statement and Land Protection Plan for the proposed Niobrara Confluence and Ponca Bluff Conservation Areas. We are extending the public comment period until September 30, 2013. For background and more information see our AprilS, 2013, notice (78 FR 20942).

Document Availability

Copies of the documents are available online at http://parkplanning.nps.gov/niob-ponca. Hard copies of the plan may be requested from the project Web site or from the planning team leader at the contact information listed above.

Public Availability of Comments

Before including your address, phone number, email address, or other personal identifying information in your comment, you should be aware that your entire comment-including your personal identifying information-may be made publicly available at any time. While you may ask us in your comment to withhold your personal identifying information from public review, we cannot guarantee that we will be able to do so.

Authority

The FWS and NPS are furnishing this notice in compliance with the National Wildlife Refuge System Administration Act of 1966 (16 U.S.C. 668dd-668ee) (Administration Act), as amended by the National Wildlife Refuge System Improvement Act of 1997; the National Park Service Organic Act of 1916 (16 U.S.C. 1 et seq.), and amendments thereto, and the National Environmental Policy Act (42 U.S.C. 4321 et seq.) and its implementing regulations.

Dated: June 7, 2013.
Patricia Trap,
Deputy Regional Director, Midwest Region, National Park Service.
Dated: June 10, 2013.
Matt Hogan,
Acting, Regional Director, Mountain Prairie Region, U.S. Fish And Wildlife Service.

[FR Doc. 2013-15657 Filed 6-28-13; 8:45 am]

BILLING CODE 4310-55-P; 4312-51-P